DEPARTMENT OF STATE

[Public Notice 12514]

30-Day Notice of Proposed Information Collection: Training/Internship Placement Plan

ACTION: Notice of request for public comment and submission to OMB of proposed collection of information: Training/Internship Placement Plan.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to September 30, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Jennifer Nupp, Private Sector Exchange Directorate (ECA/EC), U.S Department of State, SA-5, 2200 C Street NW, Washington, DC 20522-0505, ATTN: Federal Register Notice Response, which may be reached at phone: (202) 826-4364, or via email: jexchanges@state.gov.

SUPPLEMENTARY INFORMATION:

• Title of Information Collection: Training/Internship Placement Plan.

• OMB Control Number: 1405-0170.

• Type of Request: Extension of a Currently Approved Collection.

• Originating Office: Bureau of Educational and Cultural Affairs (ECA/EC).

• Form Number: DS-7002.

• Respondents: Entities designated by the Department of State as sponsors of exchange visitor programs in the trainee, intern, and student intern categories and U.S. businesses that provide the training or internship opportunity.

• Estimated Number of Respondents: 220.

• Estimated Number of Responses: 33,000.

• Average Time per Response: 1.5 hours.

• Total Estimated Burden Time: 49,500 hours.

• Frequency: On occasion depending on the number of exchange participants annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The collection contains information collected and needed by the Bureau of Educational and Cultural Affairs in administering the Exchange Visitor Program (J-Nonimmigrant) under the provisions of the Mutual Educational and Cultural Exchange Act of 1961, as amended. Training/Internship Placement Plans are to be completed by designated program sponsors. A Training/Internship Placement Plan is required for each trainee or intern participant. It will set forth the training or internship program to be followed, methods of supervision, the skills the trainee or intern will obtain, and trainee or intern compensation. The plan must be signed by the trainee or intern, sponsor, and the third-party placement organization, if a third-party organization is used in the conduct of the training or internship. Upon request, trainees or interns must present a fully executed Training/Internship Placement Plan on Form DS-7002 to any Consular Official interviewing them in connection with the issuance of J-1 visas.

Methodology

Information will be collected through electronic submission.

Mark Howard,
Director, Bureau of Educational and Cultural Affairs, Department of State.

[FR Doc. 2024-19528 Filed 8-29-24; 8:45 am]

BILLING CODE 4710-05-P